DEPARTMENT OF THE INTERIOR

National Park Service

Intent To Prepare an Environmental Impact Statement for the New Merced Wild and Scenic River Comprehensive Management Plan Yosemite National Park, Mariposa and Madera Counties, CA

ACTION: Notice of second extension of public scoping period.

SUMMARY: Pursuant to the National Environmental Policy Act (Pub. L. 91-190) and the Wild and Scenic Rivers Act (Pub. L. 90-542), the National Park Service reopened public scoping for planning and environmental impact analysis for a new Merced Wild and Scenic River Comprehensive Management Plan and Environmental Impact Statement in Yosemite National Park. The original notice of intent to prepare the Draft EIS was published in the Federal Register on June 30, 2009; the original public scoping period was extended through December 4, 2009 (as noted in the Federal Register on August 25, 2009). In deference to continued public interest, the scoping period has been further extended for two months.

DATES: Comments must be received by February 4, 2010. If you submitted comments previously, you do not need to resubmit them. We will also consider any comments that we received between the previous deadline of December 4, 2009 and February 4, 2010.

SUPPLEMENTARY INFORMATION: Interested individuals, organizations, and agencies are encouraged to provide written comments. To be considered any response must be postmarked or transmitted by February 4, 2010. Any comments already provided need not be resubmitted. All new responses should be addressed to the Superintendent, Attn: Merced River Plan, Yosemite National Park, P.O. Box 577, Yosemite National Park, CA 95389, or may be faxed to (209) 379-1294. Before including your address, phone number, e-mail address, or other personal identifying information, you should be aware that your entire comment—including your personal identifying information—may be made publicly available at any time. While you can ask us in your comment to withhold your personal identifying information from public review, we cannot guarantee that we will be able to do so.

To inquire about additional public meetings that may be scheduled, or to obtain other current information, please contact the planning team at (209) 379-1112, or refer to periodic updates posted at http://www.nps.gov/yose/parkmgmt/newmrp.htm.

Rory D. Westberg,
Acting Regional Director, Pacific West Region.

[FR Doc. 2010-2408 Filed 2-3-10; 8:45 am]

BILLING CODE 4312-FY-P